DEPARTMENT OF HOMELAND SECURITY

Coast Guard

33 CFR Part 165

[Docket No. USCG-2023-0423]

Safety Zone; Annual Fireworks Displays and Other Events in the Eighth Coast Guard District Requiring Safety Zones—Mandeville July 4th Celebration

AGENCY: Coast Guard, DHS.

ACTION: Notification of enforcement of regulation.

SUMMARY: The Coast Guard will enforce a safety zone for the Mandeville July 4th Celebration fireworks display located on the navigable waters of Lake Pontchartrain near Mandeville, LA. Our regulation for marine events within the Eighth Coast Guard District Sector New Orleans Annual and Recurring Safety Zones identifies the regulated area for this event. This action is necessary to provide for the safety of life on these navigable waterways during this event. During the enforcement period, entry into this safety zone is prohibited unless authorized by the Captain of the Port or a designated representative.

DATES: The regulations in 33 CFR 165.801 will be enforced for the location identified in Item 16 of Table 5 to § 165.801, from 7:30 through 9 p.m. on July 3, 2023.

FOR FURTHER INFORMATION CONTACT: If you have questions about this notification of enforcement, call or email Lieutenant Commander William Stewart, Sector New Orleans, U.S. Coast Guard; telephone 504-365-2246, email William.A.Stewart@uscg.mil.

SUPPLEMENTARY INFORMATION: The Coast Guard will enforce the safety zone in 33 CFR 165.801, Table 5 to § 165.801, item 16 for the Mandeville July 4th Celebration fireworks display event. This safety zone will be enforced from 7:30 through 9 p.m. on July 3, 2023. This action is being taken to provide for the safety of life on navigable waterways during this event. Our regulation for annual fireworks displays and other events in the Sector New Orleans Annual and Recurring Safety Zones in § 165.801, Item 16, specifies the location of the regulated area on Lake Pontchartrain near Mandeville, LA. During the enforcement period, as reflected in § 165.801 (a), entry into this safety zone is prohibited unless authorized by the Captain of the Port or a designated representative.

In addition to this notification of enforcement in the Federal Register, the Coast Guard plans to provide notification of this enforcement period via a Marine Safety Information Bulletin and/or Broadcast Notice to Mariners.

Dated: June 14, 2023.
K.K. Denning,
Captain, U.S. Coast Guard, Captain of the Port Sector New Orleans.

[FR Doc. 2023-13589 Filed 6-26-23; 8:45 am]

BILLING CODE 9110-04-P